FEDERAL RESERVE SYSTEM

Privacy Act of 1974; System of Records

AGENCY: Board of Governors of the Federal Reserve System.

ACTION: Notice of a new system of records.

SUMMARY: Pursuant to the provisions of the Privacy Act of 1974, notice is given that the Board of Governors of the Federal Reserve System (Board) proposes the establishment of a new system of records, BGFRS-40, entitled “FRB—Board Subscription Services.” The new system of records, BGFRS-40, will maintain subscription-related information regarding individuals who subscribe to Board publications. The main publication that the Board provides is the Federal Reserve Regulatory Service (FRRS), which is a compilation of the statutes administered by the Board along with regulations, interpretations, policy statements, rulings, and opinions issued by the Board and its staff. The FRRS also includes select regulations issued by other agencies that are relevant to the Board's responsibilities. The Board also provides subscriptions to other publications such as general publications, reports to Congress, and economic research and data.

To date, the Board has operated the subscription services itself and stored the data by year rather than by name or personal identifier. Going forward, the Board will contract the subscription services for the FRRS to a vendor, who will maintain the files (both electronic and in paper) in a manner that customarily allows the files to be accessed by name or personal identifier, thus necessitating this new system of records. After the transition of the FRRS subscription services to the vendor, the Board will continue to maintain its old historical FRRS subscription materials for the appropriate record retention period. In addition, the Board will continue to operate the subscription services for the other publications (e.g., the general publications). The Board, however, is changing how it maintains its Board-operated subscription services as, going forward, the Board will be using an electronic system that will allow retrieval of the subscription materials by subscriber name or other personal identifier.

DATES: Comments must be received on or before May 11, 2018.

This new system of records will become applicable May 11, 2018, without further notice, unless comments dictate otherwise.

The Office of Management and Budget (OMB), which has oversight responsibility under the Privacy Act, requires a 30-day period prior to publication in the Federal Register in which to review the system and to provide any comments to the agency. The public is then given a 30-day period in which to comment, in accordance with 5 U.S.C. 552a(e)(4) and (11).

ADDRESSES: You may submit comments, identified by BGFRS-40; FRB-Board Subscription Services, by any of the following methods:

• Agency website: http://www.federalreserve.gov. Follow the instructions for submitting comments at http://www.federalreserve.gov/generalinfo/foia/ProposedRegs.cfm.

• Email: regs.comments@federalreserve.gov. Include SORN name and number in the subject line of the message.

• Fax: (202) 452-3819 or (202) 452-3102.

• Mail: Ann E. Misback, Secretary, Board of Governors of the Federal Reserve System, 20th Street and Constitution Avenue NW, Washington, DC 20551.

All public comments will be made available on the Board's website at www.federalreserve.gov/generalinfo/foia/ProposedRegs.cfm as submitted, unless modified for technical reasons, or to remove sensitive PII at the commenter's request. Public comments may also be viewed electronically or in paper form in Room 3515, 1801 K Street (between 18th and 19th Streets NW) Washington, DC 20006 between 9:00 a.m. and 5:00 p.m. on weekdays.

FOR FURTHER INFORMATION CONTACTS: David B. Husband, Senior Attorney, Legal Division, (202) 530-6270, or david.b.husband@frb.gov; Alye S. Foster, Assistant General Counsel, Legal Division, or (202) 452-5289, or alye.s.foster@frb.gov. Board of Governors of the Federal Reserve System, 20th Street and Constitution Avenue NW, Washington, DC 20551, Telecommunications Device for the Deaf (TDD) users may contact (202) 263-4869.

SUPPLEMENTARY INFORMATION: In accordance with the Privacy Act of 1974, 5 U.S.C. 552a(r), a report of this system of records is being filed with the Chair of the House Committee on Oversight and Government Reform, the Chair of the Senate Committee on Homeland Security and Governmental Affairs, and the Administrator of the Office of Information and Regulatory Affairs of the Office of Management and Budget.

System Name and Number:

BGFRS-40, “FRB—Board Subscription Services”

Security Classification:

Unclassified.

System Location:

The vendor will maintain FRRS subscription materials in paper and electronic form. The vendor is located at 101 Fry Drive, Mechanicsburg, PA 17055. The Board will maintain historical FRRS subscription records and any new FRRS records created and transmitted by the vendor to the Board (such as the monthly call reports).

The Board will also maintain the subscription information for other Board publications. Paper records will be stored in file folders and electronic records will be stored on the Board's network. Records will be maintained at the Board's central offices located at: Board of Governors of the Federal Reserve System, 20th Street and Constitution Avenue NW, Washington, DC 20551.

System Manager(s):

Both managers are located at the Board's central offices in Washington, DC. The manager for the FRRS is Mike Budzinski, Manager, Editing, Office of Board Members, (202) 452-3262, mike.w.budzinski@frb.gov. For all other Board publications and for historical records stored at the Board, the manager is Gladys Parran, Manager, Printing & Fulfillment, Office of Board Members, (202) 736-5520, gladys.parran@frb.gov.

Authority for Maintenance of the System:

12 U.S.C. 244.

Purpose(s) of the System:

The Board is maintaining these records to allow individuals to subscribe to Board publications. The main publication the Board provides is the Federal Reserve Regulatory Service (FRRS), a publication that compiles the statutes administered by the Board along with regulations, interpretations, policy statements, rulings, and opinions issued by the Board and its staff as well as select regulations issued by other agencies that are relevant to the Board's responsibilities. The Board also makes available other publications such as general publications, reports to Congress, and economic research and data.

Categories of Individuals Covered by the System:

Persons who subscribe to the FRRS or create an account for the purpose of subscribing to the FRRS and persons who request to subscribe other available Board publications.

Categories of Records in the System:

The Board Subscription Services system covers records related to the ordering and fulfillment of orders for the FRRS and other Board publications, such as economic research and data, general publications, and reports to Congress. The information collected for all publications (including the FRRS) includes the subscriber's name, company name or affiliation (if applicable), shipping address, order type, email address, and phone number. For Board publications other than the FRRS, the Board also collects (in paper form) the payment type (check, money order, credit card) and, if the order is by credit card, the relevant credit card information.

In addition, subscriptions for the FRRS also include the FRRS account information (log-in and password information), the billing address, order history, and fulfillment information (shipping and delivery instructions). The Board's vendor will also provide the Board with a monthly report on FRRS subscriptions. The monthly report will record FRRS subscription revenue and selected subscriber and fulfillment information of current FRRS subscribers, including the individual subscriber's name, company name (if applicable), email address, and order type. The Board will also retain historical FRRS subscription and payment information from when the Board operated the FRRS subscription for the appropriate six-year record retention period.

Record Source Categories:

The subscriber to the publication or the FRRS account holder provides the relevant information.

Routine Uses of Records Maintained in the System, Including Categories of Users and Purposes of Such Uses:

General routine uses, A, C, D, and G, apply to this system. These general routine uses are located at https://www.federalreserve.gov/files/SORN-page-general-routine-uses-of-board-systems-of-records.pdf and are published in the Federal Register at 73 FR 24984 (May 6, 2008) at 24985-86. In addition, consistent with OMB M-17-12, records may able be disclosed in order:

1. To facilitate a response to a breach of the Board. Information may be disclosed to appropriate agencies, entities, and persons when: (1) The Board suspects or has confirmed that there has been a breach of the system of records; (2) the Board has determined that as a result of the suspected or confirmed breach there is a risk of harm to individuals or the Board (including its information systems, programs, and operations), the federal government, or national security; and (3) the disclosure made to such agencies, entities, and persons is reasonably necessary to assist in connection with the Board's efforts to respond to the suspected or confirmed breach or to prevent, minimize, or remedy such harm.

2. To assist another federal agency or federal entity in responding to a breach. Information may be disclosed to another federal agency or federal entity, when the Board determines that the information from this system of records is reasonably necessary to assist the recipient agency or entity in (1) responding to a suspected or confirmed breach or (2) preventing, minimizing, or remedying the risk of harm to individuals, the recipient agency or entity (including its information systems, programs, and operations), the federal government, or national security, resulting from a suspected or confirmed breach.

Policies and Practices for Storage of Records:

Paper records in this system are stored in file folders with access limited to staff with a need to know. Electronic records are stored on a secure server.

Policies and Practices for Retrieval of Records:

Paper and electronic records can be retrieved by name or other identifying aspects.

Policies and Practices for Retention and Disposal of Records:

The retention period for the records in this system is six years. Records will be disposed of at the end of their retention periods, subject to an annual close-out.

Administrative, Technical, and Physical Safeguards:

Board staff are restricted to the data that is required in the performances of their duties. This is accomplished through user roles, which provide differential access levels to users based on their official duties and need-to-know. Only Board staff whose official duties require such access may view the subscription and fulfillment records. Electronic records are password protected and paper records are stored in locked file cabinets.

Only select Board and vendor staff will have access to the FRRS subscriber and fulfillment information provided in the monthly FRRS vendor-provided report. Authorized Board staff will access the monthly FRRS report through an encrypted connection.

Record Access Procedures:

The Privacy Act allows individuals the right to access records maintained about them in a Board system of records. Your request for access must: (1) Contain a statement that it is made pursuant to the Privacy Act of 1974; (2) provide either the name of the Board system of records expected to contain the record requested or a concise description of the system of records; (3) provide the information necessary to verify your identity; and (4) provide any other information that may assist in the rapid identification of the record for which you are requesting access.

Current or former Board employees may make a request for access by contacting the Board office that maintains the record. The Board handles all Privacy Act requests as both a Privacy Act request and as a Freedom of Information Act request. The Board does not charge fees to a requestor seeking to access or amend his/her Privacy Act records. You may submit your Privacy Act request to the Secretary of the Board, Board of Governors of the Federal Reserve System, 20th Street and Constitution Avenue NW, Washington, DC 20551.

If your request is for records maintained by the Board's Office of Inspector General, submit your request to the Inspector General, Board of Governors of the Federal Reserve System, 20th Street and Constitution Avenue NW, Washington, DC 20551. You may also submit your Privacy Act request electronically through the Board's FOIA “Electronic Request Form” located at https://www.federalreserve.gov/secure/forms/efoiaform.aspx.

Contesting Record Procedures:

The Privacy Act allows individuals to seek amendment of information that is erroneous, irrelevant, untimely, or incomplete and is maintained in a system of records about you. To request an amendment to your record, you should clearly mark the request as a “Privacy Act Amendment Request.” You have the burden of proof for demonstrating the appropriateness of the requested amendment and you must provide relevant and convincing evidence in support of your request.

Your request for amendment must: (1) Provide the name of the specific Board system of records containing the record you seek to amend; (2) identify the specific portion of the record you seek to amend; (3) describe the nature of and reasons for each requested amendment; (4) explain why you believe the record is not accurate, relevant, timely, or complete; and (5) unless you have already done so in a Privacy Act request for access, provide the necessary information to verify your identity.

Notification Procedures:

Same as “Access procedures” above. You may also follow this procedure in order to request an accounting of previous disclosures of records pertaining to you as provided for by 5 U.S.C. 552a(c).

Exemptions Promulgated for the System:

No exemptions are claimed for this system.

History:

None.

Board of Governors of the Federal Reserve System, April 5, 2018.
Ann Misback,
Secretary of the Board.

[FR Doc. 2018-07417 Filed 4-10-18; 8:45 am]

BILLING CODE 6210-01-P